RAILROAD RETIREMENT BOARD

Proposed Collection; Comment Request

SUMMARY: In accordance with the requirement of Section 3506(c)(2)(A) of the Paperwork Reduction Act of 1995 which provides opportunity for public comment on new or revised data collections, the Railroad Retirement Board (RRB) publishes periodic summaries of proposed data collections.

Comments Are Invited On

(a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Employer Reporting; OMB 3220-0005.

Under Section 9 of the Railroad Retirement Act (RRA) and Section 6 of the Railroad Unemployment Insurance Act (RUIA), railroad employers are required to submit reports of employee service and compensation to the RRB as needed for administering the RRA and RUIA. To pay benefits due on a deceased employee's earnings records or determine entitlement to, and amount of annuity applied for, it is necessary at times to obtain from railroad employers current (lag) service and compensation not yet reported to the RRB through the annual reporting process. The reporting requirements are specified in 20 CFR 209.4 and 209.5.

The RRB currently utilizes Form G-88a.1, Notice of Retirement and Verification of Date Last Worked, Form G-88a.2, Notice of Retirement and Request for Service Needed for Eligibility, Form AA-12, Notice of Death and Compensation, to obtain the required lag service and related information from railroad employers. Form G-88a.1 is sent by the RRB to railroad employers and used for the specific purpose of verifying information previously provided to the RRB regarding the date last worked by an employee. If the information is correct, the employer need not reply. If the information is incorrect, the employer is asked to provide corrected information. Form G-88a.2 is used by the RRB to secure lag service and compensation information when it is needed to determine benefit eligibility. The RRB proposes to replace the current Form G-88a.1, with proposed Form G-88a.1, Notice of Retirement Verification of Date Last Worked. Proposed Form G-88a.1, is a computer generated listing that will be generated monthly, sent to railroad employers, and used to verify information regarding the date last worked. If the information is incorrect, the employer is asked to provide corrected information. If the information is correct, the railroad employers will not have to respond. It is expected that the proposed new form will be easier for railroad employers to complete and result in fewer overall responses being required. No changes are proposed to Form G-88a.2 or Form AA-12.

In addition, 20 CFR 209.12(b) requires all railroad employers to annually furnish the RRB with the home addresses of all employees hired within the last year (new-hires). Form BA-6a, BA-6 Address Report, is used by the RRB to obtain home address information of employees from railroad employers that do not have the home address information computerized and who submit the information in a paper format. The form also serves as an instruction sheet to railroad employers who submit the information electronically by magnetic tape, cartridge, or PC diskette.

No changes are proposed to Form BA-6a. The completion time for the Proposed Form G-88a.1 is estimated at 5 to 20 minutes. Form G-88a.2 is estimated at 5 minutes per response. The estimated completion time for Form AA-12 is 6½ minutes per response. The estimated completion time for form BA-6 is 30 minutes if completed manually and 15 minutes if completed electronically. Completion is mandatory. The RRB estimates that approximately 800 Form AA-12's, 400 Form G-88a.1's, 1,200 Form G-88a.2's and 464 Form BA-6a's are completed annually.

Additional Information or Comments

To request more information or to obtain a copy of the information collection justification, forms, and/or supporting material, please call the RRB Clearance Officer at (312) 751-3363. Comments regarding the information collection should be addressed to Ronald J. Hodapp, Railroad Retirement Board, 844 North Rush Street, Chicago, Illinois 60611-2902. Written comments should be received on or before May 21, 2001.

Chuck Mierzwa,
Clearance Officer.

[FR Doc. 01-7141 Filed 3-21-01; 8:45 am]

BILLING CODE 7590-01-M